DEPARTMENT OF ENERGY

Federal Energy Regulatory Commission

Combined Notice of Filings #1

Take notice that the Commission received the following electric corporate filings:

Docket Numbers: EC12-55-000.

Applicants: ConocoPhillips Company.

Description: ConocoPhillips Company Application for Authorization for Disposition of Jurisdictional Facilities.

Filed Date: 12/29/11.

Accession Number: 20111229-5200.

Comments Due: 5 p.m. ET 1/19/12.

Take notice that the Commission received the following electric rate filings:

Docket Numbers: ER00-3080-007.

Applicants: Otter Tail Power Company.

Description: Updated Market Power Analysis of Otter Tail Power Company.

Filed Date: 12/30/11.

Accession Number: 20111230-5214.

Comments Due: 5 p.m. ET 2/28/12.

Docket Numbers: ER10-1257-001; ER10-1258-001.

Applicants: Wabash Valley Power Association, Inc., Wabash Valley Energy Marketing, Inc.

Description: Wabash Valley Power Association, Inc., et al. submits Updated Market Power Analysis.

Filed Date: 12/30/11.

Accession Number: 20111230-5085.

Comments Due: 5 p.m. ET 2/28/12.

Docket Numbers: ER10-1338-001.

Applicants: Southern Indiana Gas and Electric Company.

Description: Vectren Corporation submits its triennial market power update for SIGECO's market-based rate authorization.

Filed Date: 12/29/11.

Accession Number: 20111230-0201.

Comments Due: 5 p.m. ET 2/27/12.

Docket Numbers: ER10-1484-002.

Applicants: Shell Energy North America (US), L.P.

Description: Updated Market Power Analysis of Shell Energy North America (US), L.P. for the Southeast Region.

Filed Date: 12/29/11.

Accession Number: 20111229-5202.

Comments Due: 5 p.m. ET 2/27/12.

Docket Numbers: ER10-1619-001; ER10-1620-002; ER10-1623-001; ER10-1625-002; ER12-60-001; ER10-1632-001.

Applicants: Tenaska Alabama II Partners, L.P., Tenaska Alabama Partners, L.P., Tenaska Georgia Partners, L.P., Tenaska Frontier Partners, Ltd., Tenaska Power Services Co., Tenaska Power Management, LLC.

Description: Updated Market Power Analysis of Tenaska Alabama Partners, L.P., et al.

Filed Date: 12/30/11.

Accession Number: 20111230-5205.

Comments Due: 5 p.m. ET 2/28/12.

Docket Numbers: ER10-1790-005.

Applicants: BP Energy Company.

Description: BP Energy Company Submits Updated Market Power Analysis for Southeast Region.

Filed Date: 12/29/11.

Accession Number: 20111229-5193.

Comments Due: 5 p.m. ET 2/27/12.

Docket Numbers: ER10-2265-001; ER10-2791-002; ER10-2792-002; ER10-1643-001; ER10-2876-002; ER10-2931-002.

Applicants: Cottonwood Energy Company LP, NRG Power Marketing LLC, Louisiana Generating LLC, Bayou Cove Peaking Power LLC, Big Cajun I Peaking Power LLC, NRG Sterlington Power LLC.

Description: Updated Market Power Analysis of NRG Power Marketing LLC, et al.

Filed Date: 12/30/11.

Accession Number: 20111230-5203.

Comments Due: 5 p.m. ET 2/28/12.

Docket Numbers: ER10-2331-002; ER10-2343-002; ER10-2319-001; ER10-2332-001; ER10-2326-002; ER10-2327-003; ER10-2328-001; ER10-2330-002.

Applicants: J.P. Morgan Ventures Energy Corporation, BE Rayle LLC, BE Alabama LLC, Cedar Brakes I, L.L.C., Utility Contract Funding, L.L.C., Central Power & Lime LLC, Cedar Brakes II, L.L.C., J.P. Morgan Commodities Canada Corporation.

Description: Updated Market Power Analysis and Order 697 Compliance Filing of J.P. Morgan Ventures Energy Corporation LLC.

Filed Date: 12/30/11.

Accession Number: 20111230-5216.

Comments Due: 5 p.m. ET 2/28/12.

Docket Numbers: ER10-2615-002; ER11-2335-003.

Applicants: Plum Point Energy Associates, LLC, Plum Point Services Company, LLC.

Description: Plum Point Energy Associates, LLC, et. al. Submit MBR Triennial.

Filed Date: 12/29/11.

Accession Number: 20111229-5198.

Comments Due: 5 p.m. ET 2/27/12.

Docket Numbers: ER10-2791-001.

Applicants: Bayou Cove Peaking Power LLC.

Description: Request for Category 1 Seller status to be effective 2/28/2012.

Filed Date: 12/30/11.

Accession Number: 20111230-5110.

Comments Due: 5 p.m. ET 1/20/12.

Docket Numbers: ER10-2792-001.

Applicants: Big Cajun I Peaking Power LLC.

Description: Request for Category 1 Seller status to be effective 2/28/2012.

Filed Date: 12/30/11.

Accession Number: 20111230-5105.

Comments Due: 5 p.m. ET 1/20/12.

Docket Numbers: ER10-2876-001.

Applicants: Louisiana Generating LLC.

Description: Request for Category 1 Seller status to be effective 2/28/2012.

Filed Date: 12/30/11.

Accession Number: 20111230-5111.

Comments Due: 5 p.m. ET 1/20/12.

Docket Numbers: ER10-2931-001.

Applicants: NRG Sterlington Power LLC.

Description: Request for Category 1 Seller status to be effective 2/28/2012.

Filed Date: 12/30/11.

Accession Number: 20111230-5119.

Comments Due: 5 p.m. ET 1/20/12.

Docket Numbers: ER10-3057-001.

Applicants: Dow Pipeline Company.

Description: Triennial Market Power Analysis for the Southeast Region of Dow Pipeline Company.

Filed Date: 12/29/11.

Accession Number: 20111229-5195.

Comments Due: 5 p.m. ET 2/27/12.

Docket Numbers: ER10-3083-001; ER10-3082-001.

Applicants: Motiva Enterprises LLC, Shell Chemical LP.

Description: Triennial Market Power Update for the Southeast Region of Shell Chemical LP, et al.

Filed Date: 12/30/11.

Accession Number: 20111230-5217.

Comments Due: 5 p.m. ET 2/28/12.

Docket Numbers: ER10-3110-001; ER10-3144-001.

Applicants: Entegra Power Services LLC, Union Power Partners, L.P.

Description: Union Power Partners, L.P. and Entegra Power Services LLC submit an Updated Market Power Analysis for Market-Based Rate Authority.

Filed Date: 12/29/11.

Accession Number: 20111229-5196.

Comments Due: 5 p.m. ET 2/27/12.

Docket Numbers: ER10-3125-004; ER10-3102-004; ER10-3100-004; ER10-3143-002; ER10-3107-004; ER10-3109-004.

Applicants: Effingham County Power, LLC, MPC Generating, LLC, Walton County Power, LLC, Washington County Power, LLC, Sabine Cogen, LP, AL Sandersville, LLC.

Description: Updated Market Power Analysis and Associated Work Papers for AL Sandersville, LLC, et al.

Filed Date: 12/30/11.

Accession Number: 20111230-5220.

Comments Due: 5 p.m. ET 2/28/12.

Docket Numbers: ER11-1858-001; ER10-3201-001.

Applicants: Montana Generation, LLC, NorthWestern Corporation.

Description: Updated Market Power Analysis of NorthWestern Corporation and Montana Generation, LLC.

Filed Date: 12/30/11.

Accession Number: 20111230-5209.

Comments Due: 5 p.m. ET 2/28/12.

Docket Numbers: ER12-57-002.

Applicants: Southwestern Electric Power Company.

Description: 20111202 ETEC Revised PSA to be effective 12/17/2010.

Filed Date: 12/2/11.

Accession Number: 20111202-5194.

Comments Due: 5 p.m. ET 1/10/12.

Docket Numbers: ER12-58-002.

Applicants: Southwestern Electric Power Company.

Description: 20111202 TexLa Restated PSA to be effective 12/17/2010.

Filed Date: 12/2/11.

Accession Number: 20111202-5193.

Comments Due: 5 p.m. ET 1/10/12.

Docket Numbers: ER12-91-001

Applicants: PJM Interconnection, L.L.C., Duke Energy Kentucky, Inc.

Description: Duke submits Amendment requesting Deferral of Action in ER12-91 and ER12-92 to be effective 1/1/2012.

Filed Date: 12/29/11.

Accession Number: 20111229-5158.

Comments Due: 5 p.m. ET 1/19/12.

Docket Numbers: ER12-92-001.

Applicants: PJM Interconnection, L.L.C., Duke Energy Kentucky, Inc.

Description: Duke submits Amendment requesting Deferral of Action in ER12-91 and ER12-92 to be effective 1/1/2012.

Filed Date: 12/29/11.

Accession Number: 20111229-5161.

Comments Due: 5 p.m. ET 1/19/12.

Docket Numbers: ER12-610-000.

Applicants: Shiloh III Lessee, LLC.

Description: Supplement to Application for MBR Authorization of Shiloh III Lessee, LLC.

Filed Date: 12/30/11.

Accession Number: 20111230-5118.

Comments Due: 5 p.m. ET 1/20/12.

Docket Numbers: ER12-714-000.

Applicants: Northern States Power Company, a Minnesota corporation.

Description: 2011-12-29_NSP-MDEU_I&I_Cert of Concur_317-NSP to be effective 1/1/2012.

Filed Date: 12/29/11.

Accession Number: 20111229-5116.

Comments Due: 5 p.m. ET 1/19/12.

Docket Numbers: ER12-715-000.

Applicants: Midwest Independent Transmission System Operator, Inc.

Description: 12-29-11 Schedule 39 to be effective 1/1/2012.

Filed Date: 12/29/11.

Accession Number: 20111229-5159.

Comments Due: 5 p.m. ET 1/19/12.

Docket Numbers: ER12-716-000.

Applicants: California Independent System Operator Corporation.

Description: 2011-12-29 CAISO's Amended MSSA with SVP to be effective 1/1/2012.

Filed Date: 12/29/11.

Accession Number: 20111229-5162.

Comments Due: 5 p.m. ET 1/19/12.

Docket Numbers: ER12-717-000.

Applicants: Northern States Power Company, a Minnesota corporation.

Description: 2011-12-29_EREPC_Str 21-23_O&M_Agmt-316 to be effective 12/1/2011.

Filed Date: 12/29/11.

Accession Number: 20111229-5171.

Comments Due: 5 p.m. ET 1/19/12.

Docket Numbers: ER12-718-000.

Applicants: New York Independent System Operator, Inc.

Description: NYISO/PJM Joint Compliance Filing of Market-to-Market Coordination Provisions to be effective 12/31/9998.

Filed Date: 12/30/11.

Accession Number: 20111230-5003.

Comments Due: 5 p.m. ET 1/20/12.

Docket Numbers: ER12-719-000.

Applicants: Portland General Electric Company.

Description: NTTG Funding Agreement to be effective 1/1/2012.

Filed Date: 12/30/11.

Accession Number: 20111230-5007.

Comments Due: 5 p.m. ET 1/20/12.

Docket Numbers: ER12-720-000.

Applicants: Idaho Power Company.

Description: NTTG Funding Agreement to be effective 1/1/2012.

Filed Date: 12/30/11.

Accession Number: 20111230-5008.

Comments Due: 5 p.m. ET 1/20/12.

Docket Numbers: ER12-721-000.

Applicants: PJM Interconnection, L.L.C.

Description: Revisions to TOA Att A adding City of Hamilton as PJM Transmission Owner to be effective 2/29/2012.

Filed Date: 12/30/11.

Accession Number: 20111230-5009.

Comments Due: 5 p.m. ET 1/20/12.

Docket Numbers: ER12-722-000.

Applicants: PJM Interconnection, L.L.C.

Description: Revisions to OATT Att L adding City of Hamilton as PJM Transmission Owner to be effective 2/29/2012.

Filed Date: 12/30/11.

Accession Number: 20111230-5010.

Comments Due: 5 p.m. ET 1/20/12.

Docket Numbers: ER12-723-000.

Applicants: PJM Interconnection, L.L.C., Duke Energy Ohio, Inc.

Description: Duke submits PJM Service Agreement Nos. 1491, 1958 and 3132-3141 to be effective 1/1/2012.

Filed Date: 12/30/11.

Accession Number: 20111230-5011.

Comments Due: 5 p.m. ET 1/20/12.

Docket Numbers: ER12-724-000.

Applicants: Wabash Valley Power Association, Inc.

Description: Notice of Cancellation of Midwest Energy Rate Schedule and Service Agreement to be effective 1/1/2012.

Filed Date: 12/30/11.

Accession Number: 20111230-5041.

Comments Due: 5 p.m. ET 1/20/12.

Docket Numbers: ER12-725-000.

Applicants: New England Power Pool Participants Committee.

Description: Jan 2012 Membership Filing to be effective 12/1/2011.

Filed Date: 12/30/11.

Accession Number: 20111230-5047.

Comments Due: 5 p.m. ET 1/20/12.

Docket Numbers: ER12-726-000.

Applicants: Spring Valley Wind LLC.

Description: Application for Market-Based Rate Authority to be effective 2/28/2012.

Filed Date: 12/30/11.

Accession Number: 20111230-5050.

Comments Due: 5 p.m. ET 1/20/12.

Docket Numbers: ER12-727-000.

Applicants: Wabash Valley Power Association, Inc.

Description: Ministerial Amendments to Formulary Rate Tariff FERC Electric Tariff Volume 1 to be effective 1/1/2012.

Filed Date: 12/30/11.

Accession Number: 20111230-5053.

Comments Due: 5 p.m. ET 1/20/12.

Docket Numbers: ER12-728-000.

Applicants: Deseret Generation & Transmission Co-operative, Inc.

Description: Revisions to RS FERC No. 25 to be effective 1/1/2012.

Filed Date: 12/30/11.

Accession Number: 20111230-5056.

Comments Due: 5 p.m. ET 1/20/12.

Docket Numbers: ER12-729-000.

Applicants: ISO New England Inc., New England Power Pool Participants Committee.

Description: Blackstart Filing Part I of II—Revisions to Schedule 16 of the OATT to be effective 6/1/2012.

Filed Date: 12/30/11.

Accession Number: 20111230-5057.

Comments Due: 5 p.m. ET 1/20/12.

Docket Numbers: ER12-729-001.

Applicants: ISO New England Inc., New England Power Pool Participants Committee.

Description: Blackstart Filing Part II of II—Revisions to Schedule 16 of the OATT to be effective 1/1/2013.

Filed Date: 12/30/11.

Accession Number: 20111230-5059.

Comments Due: 5 p.m. ET 1/20/12.

Docket Numbers: ER12-730-000.

Applicants: Arizona Public Service Company.

Description: Addition to Rate Schedule No. 217, Addition of Exhibit B.PPK to be effective 3/1/2012.

Filed Date: 12/30/11.

Accession Number: 20111230-5065.

Comments Due: 5 p.m. ET 1/20/12.

Docket Numbers: ER12-731-000.

Applicants: PJM Interconnection, L.L.C.

Description: Notice of Cancellation of Service Agreement 2714 in Docket No. ER11-2745-000 to be effective 12/8/2011.

Filed Date: 12/30/11.

Accession Number: 20111230-5068.

Comments Due: 5 p.m. ET 1/20/12.

Docket Numbers: ER12-732-000.

Applicants: PacifiCorp.

Description: NTTG Funding Agreement to be effective 1/1/2012.

Filed Date: 12/30/11.

Accession Number: 20111230-5099.

Comments Due: 5 p.m. ET 1/20/12.

Docket Numbers: ER12-733-000.

Applicants: Promet Energy Partners, LLC.

Description: Market-Based Rate Tariff Baseline to be effective 12/30/2011.

Filed Date: 12/30/11.

Accession Number: 20111230-5101.

Comments Due: 5 p.m. ET 1/20/12.

Docket Numbers: ER12-734-000.

Applicants: NorthWestern Corporation.

Description: 3rd Revised Rate Sch FERC No. 253—NTTG Funding Agreement to be effective 1/1/2012.

Filed Date: 12/30/11.

Accession Number: 20111230-5104.

Comments Due: 5 p.m. ET 1/20/12.

Docket Numbers: ER12-735-000.

Applicants: NAEA Energy Massachusetts LLC.

Description: Tariff Revision Updating Seller Category Designation to be effective 12/30/2011.

Filed Date: 12/30/11.

Accession Number: 20111230-5114.

Comments Due: 5 p.m. ET 1/20/12.

Docket Numbers: ER12-736-000.

Applicants: NAEA Newington Energy, LLC.

Description: Update to Category Seller Designation to be effective 12/30/2011.

Filed Date: 12/30/11.

Accession Number: 20111230-5122.

Comments Due: 5 p.m. ET 1/20/12.

Docket Numbers: ER12-737-000.

Applicants: NAEA Ocean Peaking Power, LLC.

Description: Update to Category Seller Designation to be effective 12/30/2011.

Filed Date: 12/30/11.

Accession Number: 20111230-5127.

Comments Due: 5 p.m. ET 1/20/12.

Docket Numbers: ER12-738-000.

Applicants: NAEA Rock Springs, LLC.

Description: Update to Category Seller Designation to be effective 12/30/2011.

Filed Date: 12/30/11.

Accession Number: 20111230-5130.

Comments Due: 5 p.m. ET 1/20/12.

Docket Numbers: ER12-739-000.

Applicants: Midwest Independent Transmission System Operator, Inc.

Description: 12-30-11 to be effective 1/1/2012.

Filed Date: 12/30/11.

Accession Number: 20111230-5132.

Comments Due: 5 p.m. ET 1/20/12.

Docket Numbers: ER12-740-000.

Applicants: California Independent System Operator Corporation.

Description: 2011-12-30 CAISO's MSSA with Riverside to be effective 1/1/2012.

Filed Date: 12/30/11.

Accession Number: 20111230-5135.

Comments Due: 5 p.m. ET 1/20/12.

Docket Numbers: ER12-741-000.

Applicants: Black Hills Power, Inc.

Description: Baseline Service Agreement to be effective 11/1/2011.

Filed Date: 12/30/11.

Accession Number: 20111230-5161.

Comments Due: 5 p.m. ET 1/20/12.

Docket Numbers: ER12-742-000.

Applicants: Lakewood Cogeneration Limited Partnership.

Description: Update to Category Seller Status to be effective 12/30/2011.

Filed Date: 12/30/11.

Accession Number: 20111230-5164.

Comments Due: 5 p.m. ET 1/20/12.

Docket Numbers: ER12-743-000.

Applicants: Black Hills Power, Inc.

Description: GDEMA Revised Schedule B to be effective 1/1/2012.

Filed Date: 12/30/11.

Accession Number: 20111230-5166.

Comments Due: 5 p.m. ET 1/20/12.

Docket Numbers: ER12-744-000.

Applicants: Duke Energy Carolinas, LLC.

Description: Highlands PPA Filing to be effective 9/9/2010.

Filed Date: 12/30/11.

Accession Number: 20111230-5168.

Comments Due: 5 p.m. ET 1/20/12.

Docket Numbers: ER12-745-000.

Applicants: PJM Interconnection, L.L.C.

Description: Annual RTEP Update Filing to be effective 1/1/2012.

Filed Date: 12/30/11.

Accession Number: 20111230-5172.

Comments Due: 5 p.m. ET 1/20/12.

Docket Numbers: ER12-746-000.

Applicants: Dynegy Midwest Generation, LLC.

Description: Amended and Restated Black Start Service Agreement to be effective 1/1/2012.

Filed Date: 12/30/11.

Accession Number: 20111230-5174.

Comments Due: 5 p.m. ET 1/20/12.

Docket Numbers: ER12-747-000.

Applicants: Midwest Independent Transmission System Operator, Inc.

Description: 12-30-11 Schedule 10-FERC to be effective 12/31/2011.

Filed Date: 12/30/11.

Accession Number: 20111230-5176.

Comments Due: 5 p.m. ET 1/20/12.

Docket Numbers: ER12-748-000.

Applicants: Black Hills Power, Inc.

Description: GDEMA Revised Schedule B to be effective 1/1/2012.

Filed Date: 12/30/11.

Accession Number: 20111230-5179.

Comments Due: 5 p.m. ET 1/20/12.

Docket Numbers: ER12-749-000.

Applicants: Midwest Independent Transmission System Operator, Inc. Ameren Transmission Company of Illinois.

Description: 12-30-11 to be effective 3/1/2012.

Filed Date: 12/30/11.

Accession Number: 20111230-5180.

Comments Due: 5 p.m. ET 1/20/12.

Docket Numbers: ER12-750-000.

Applicants: Black Hills Power, Inc.

Description: GDEMA Revised Schedule B to be effective 1/1/2012.

Filed Date: 12/30/11.

Accession Number: 20111230-5187.

Comments Due: 5 p.m. ET 1/20/12.

Docket Numbers: ER12-751-000.

Applicants: Black Hills Power, Inc.

Description: GDEMA Revised Schedule B to be effective 1/1/2012.

Filed Date: 12/30/11.

Accession Number: 20111230-5194.

Comments Due: 5 p.m. ET 1/20/12.

Docket Numbers: ER12-752-000.

Applicants: Southwest Power Pool, Inc.

Description: Notification of Tariff Implementation Errors and Request for Limited Tariff Waiver of Southwest Power Pool, Inc.

Filed Date: 12/30/11.

Accession Number: 20111230-5207.

Comments Due: 5 p.m. ET 1/20/12.

Take notice that the Commission received the following land acquisition reports:

Docket Numbers: LA11-4-000.

Applicants: ALLETE, Inc.

Description: Land Acquisition Report, ALLETE, Inc.

Filed Date: 12/30/11.

Accession Number: 20111230-5213.

Comments Due: 5 p.m. ET 1/20/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 3, 2012.
Nathaniel J. Davis, Sr.,
Deputy Secretary.

[FR Doc. 2012-221 Filed 1-9-12; 8:45 am]

BILLING CODE 6717-01-P